SECURITIES AND EXCHANGE COMMISSION

[File No. 500-1]

In the Matter of Asthma Disease Management, Inc.; Order of Suspension of Trading

It appears to the Securities and Exchange Commission that there is a lack of current and accurate information concerning the securities of Asthma Disease Management, Inc., a Nevada corporation, with its principal place of business in Berlin, New Jersey. Questions have been raised about the adequacy and accuracy of publicly disseminated information, concerning, among other things, purported contracts between Asthma Disease Management, Inc. and three health maintenance organizations: Cape Health Plan (f/k/a Cape Medical) of Detroit, Michigan; Horizon Mercy of Trenton, New Jersey; and HMA of Philadelphia, Pennsylvania.

The Commission is of the opinion that the public interest and the protection of investors require a suspension of trading in the securities of the above-listed company.

Therefore, it is ordered, pursuant to section 12(k) of the Securities Exchange Act of 1934, that trading in the above-listed company is suspended for the period from 9:30 a.m. EDT, May 8, 2000, through 11:59 p.m. EDT, on May 19, 2000.

By the Commission.
Margaret H. McFarland,
Deputy Secretary.

[FR Doc. 00-11798 Filed 5-8-00; 12:15 pm]

BILLING CODE 8010-01-M